DEPARTMENT OF ENERGY

Federal Energy Regulatory Commission

[Docket No. RP01-350-010]

Colorado Interstate Gas Company; Notice of Refund Report

December 31, 2002.

Take notice that on December 23, 2002, Colorado Interstate Gas Company (CIG) tendered for filing its refund report in Docket No. RP01-350-000.

CIG states that the filing and refunds were made to comply with the Commission's order issued on August 5, 2002. CIG states that the refunds were made on November 25, 2002.

CIG states that the refund report summarizes jurisdictional transportation and gathering refund amounts for the period October 1, 2001 through September 30, 2002 pursuant to Article 2.2 of CIG's Stipulation and Agreement as approved in the Commission's August 5, 2002 order.

CIG states that copies of CIG's filing are being mailed to all parties of record in this proceeding and interested states regulatory Commissions.

Any person desiring to protest said filing should file a protest with the Federal Energy Regulatory Commission, 888 First Street, NE., Washington, DC 20426, in accordance with Section 385.211 of the Commission's Rules and Regulations. All such protests must be filed on or before January 7, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 03-238 Filed 1-3-03; 8:45 am]

BILLING CODE 6717-01-P